DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date:

November 19, 2009 9 a.m.-3:30 p.m.

November 20, 2009 9:30 a.m.-12:30 p.m.

Place: National Center for Health Statistics, 3311 Toledo Road, Hyattsville, MD 20782, Telephone: 301 458-4200.

Status: Open.

Purpose: At this meeting the Committee will hear presentations and hold discussions on several health data policy topics. On the morning of the first day, the Committee will hear updates from the Department, the HHS Data Council, and the Centers for Medicare and Medicaid Services. A discussion of the Meaningful Measures letter action item led by the Quality Subcommittee will also take place. There will also be a briefing on the Department's work on comparative effectiveness research under the Recovery Act. In the afternoon, a discussion is scheduled regarding enhancing health information capacity in the 21st century.

On the morning of the second day, an action item is scheduled on the Meaningful Measures letter. Updates are planned from the Office of the National Coordinator (ONC) and the Office for Civil Rights (OCR), and a review of a draft of the biannual report to Congress on the implementation of the Administrative Simplification Provisions of HIPAA. Also scheduled are an update from NCHS Board of Scientific Counselors and a status report regarding the NVCHS 60th Anniversary Symposium.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: November 2, 2009.
James Scanlon,
Deputy Assistant Secretary for Planning and Evaluation, Office of the Assistant Secretary for Planning and Evaluation.

[FR Doc. E9-27023 Filed 11-9-09; 8:45 am]

BILLING CODE 4151-05-P